DEPARTMENT OF STATE

[Delegation of Authority No. 479-1]

Re-Delegation; Authority To Invoke the Deliberative-Process Privilege

By virtue of the authority vested in Department of State Legal Adviser by Delegation of Authority 479, dated December 17, 2019, and to the extent authorized by law, I hereby re-delegate the authority to assert the deliberative-process privilege in judicial and administrative proceedings to the Deputy Legal Advisers.

The guidelines and exclusions contained in Delegation of Authority 479 apply to this re-delegation.

This delegation does not repeal or modify any delegation of authority currently in effect. This delegation does not rescind or disapprove of any of the Department's prior invocations of the deliberative-process privilege.

This delegation of authority shall be published in the Federal Register.

Dated: January 16, 2023.
Richard C. Visek,
Acting Legal Adviser, U.S. Department of State.

[FR Doc. 2023-01485 Filed 1-24-23; 8:45 am]

BILLING CODE 4710-08-P